Executive Order 14280 of April 23, 2025

Reinstating Commonsense School Discipline Policies

By the authority vested in me as President by the Constitution and the laws of the United States of America, and to ensure safety and order in American classrooms, it is hereby ordered:

Section 1. Purpose and Policy. The Federal Government will no longer tolerate known risks to children's safety and well-being in the classroom that result from the application of school discipline based on discriminatory and unlawful “equity” ideology.

In January 2014, the Department of Education and the Department of Justice jointly issued a “Dear Colleague” letter regarding school discipline. In that letter, the Department of Education and the Department of Justice explained that schools could be found to violate Title VI of the Civil Rights Act of 1964—and therefore could lose Federal funding—if their disciplinary decisions ran afoul of a newly imposed disparate-impact framework under which race-neutral disciplinary policies, applied in an even-handed manner, may be improper if members of any racial groups are suspended, expelled, or referred to law enforcement at higher rates than others. The letter effectively required schools to discriminate on the basis of race by imposing discipline based on racial characteristics, rather than on objective behavior alone.

The consequences harmed students and schools. A 2018 report from the Federal Commission on School Safety (Commission) noted evidence that, because of the 2014 letter, “schools ignored or covered up—rather than disciplined—student misconduct in order to avoid any purported racial disparity in discipline numbers that might catch the eye of the federal government.” As a result, students who should have been suspended or expelled for dangerous behavior remained in the classroom, making all students less safe.

As the Commission found: “When school leaders focus on aggregate school discipline numbers rather than the specific circumstances and conduct that underlie each matter, schools become less safe,” and “[r]esearch clearly indicates that the failure of schools to appropriately discipline disruptive students has consequences for overall student achievement.” The Commission's seemingly obvious conclusion was that “disciplinary decisions are best left in the hands of classroom teachers and administrators” and should be based on student behavior, rather than racial statistics.

Following the Commission's report on December 18, 2018, the 2014 Dear Colleague letter was rescinded. In 2023, however, the previous administration's Department of Education and Department of Justice issued new guidance noting that statistical racial disparities in student discipline may indicate violations of law, and encouraging schools to collect, analyze, and adjust their disciplinary policies in light of racial disciplinary data. The 2023 guidance thus effectively reinstated the practice of weaponizing Title VI to promote an approach to school discipline based on discriminatory equity ideology. As a consequence of these policies, teachers and students are suffering increased levels of classroom disorder and school violence.

Sec. 2. Definitions. As used herein:

(a) The definitions in the Executive Order of January 29, 2025 (Ending Radical Indoctrination in K-12 Schooling), shall apply to this order.

(b) “Behavior Modification Techniques” means any school discipline policies or practices that incorporate or are based on discriminatory equity ideology.

Sec. 3. Ensuring Commonsense School Discipline Policies.

(a) Within 30 days of the date of this order, the Secretary of Education, in consultation with the Attorney General, shall issue new guidance to local educational agencies (LEAs) and State educational agencies (SEAs) regarding school discipline and their obligations not to engage in racial discrimination under Title VI in all contexts, including school discipline.

(b) The Secretary of Education shall take appropriate action with respect to LEAs and SEAs that fail to comply with Title VI protections against racial discrimination in the application of school discipline.

(c) Within 60 days of the date of this order, the Secretary of Education and the Attorney General shall initiate coordination with Governors and State Attorneys General regarding the prevention of racial discrimination in the application of school discipline.

(d) Within 90 days of the date of this order, the Secretary of Defense shall issue a revised school discipline code that appropriately protects and enhances the education of the children of America's military-service families.

(e) Within 120 days of the date of this order, the Secretary of Education shall, in coordination with the Attorney General, the Secretary of Health and Human Services, and the Secretary of Homeland Security, submit a report to the President, through the Assistant to the President for Domestic Policy, regarding the status of discriminatory-equity-ideology-based school discipline and behavior modification techniques in American public education. The report shall include:

(i) an inventory and analysis of the nature and consequences of all Title VI discipline-related investigations since 2009;

(ii) an assessment of the role of non-profit organizations that are Federal grant recipients in promoting discriminatory-equity-ideology-based discipline and behavior modification techniques, and recommendations to ensure that Federal taxpayer funds do not flow to programs or activities, including those of non-profit organizations, that promote discriminatory-equity-ideology-based discipline and behavior modification techniques;

(iii) an assessment of discipline-related policies and curricular options that do not promote discriminatory equity ideology; and

(iv) model school discipline policies that promote common sense, protect the safety and educational environment of students, do not promote unlawful discrimination, and are rooted in American values and traditional virtues.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 23, 2025.

[FR Doc. 2025-07377

Filed 4-25-25; 8:45 am]

Billing code 3395-F4-P